Proclamation 10465 of September 30, 2022

Child Health Day, 2022

By the President of the United States of America

A Proclamation

Across America, parents are united by a common dream that their children's lives will be healthier, happier, and more promising than their own. On Child Health Day, we rededicate ourselves to making that dream a reality and recommit to providing every child with the quality health care, child care, and education they need to thrive.

Supporting our children means—first and foremost—keeping them safe. The devastating truth is that guns are currently the number one cause of death for children in the United States. That is not acceptable, and it is why I signed the first major bipartisan law in nearly 30 years to keep firearms out of the hands of people who are a danger to themselves and to others, protecting innocent children from rampant gun violence—especially in schools. This is just the beginning; I will continue to push for an assault weapon ban that will limit access to these dangerous weapons on American streets and in our communities. No child should have to live in fear.

At the same time, no parent should have to lie awake at night wondering how they will pay for the treatment or hospital care their child needs. Thanks to the American Rescue Plan and other key initiatives of my Administration, one million children have gained health coverage since I came into office. My Inflation Reduction Act will also lower health insurance premiums for 13 million Americans. To give hardworking parents more breathing room during the pandemic, I expanded the child tax credit—a measure estimated to have helped cut child poverty by over 40 percent last year. This money was a life-changer for families who too often must choose between a paycheck and taking care of themselves and their loved ones. Additionally, in September, I convened the first White House Conference on Hunger, Nutrition, and Health in over 50 years, at which we released a national strategy to create a pathway to free, healthy school meals for all children—beginning by expanding free school meals to 9 million more kids by 2032.

My Administration's efforts to tackle the national mental health crisis, especially among our Nation's youth, build on these important measures. Today, suicide is the second leading cause of death among young people between the ages of 10 and 24, and over the past several years, mental health emergencies have increased among youth of all ages. In response, my Administration is making it easier for children across America to access mental health specialists through their pediatricians' offices. We are helping to address the harms of social media use on youth mental health and investing billions of dollars to expand access to mental health services and professionals in schools. We are also educating States on ways to leverage all Federal resources, including Medicaid, to improve the delivery of health care in schools. Already, we are making progress. As of July, the number of school social workers has risen 54 percent relative to the years before the pandemic. In the same period, the number of counselors is up 22 percent, and the number of school nurses has also increased by 22 percent.

To protect our children from the COVID-19 pandemic, my Administration rolled out vaccines for children 6 months and older, helping to ensure that kids and infants can be safer in all public spaces, including classrooms and daycares. We are delivering affordable high-speed internet to every American so students no longer have to sit in fast food parking lots just to use the Wi-Fi to do their homework. I secured funding to help replace every single lead pipe in the Nation so no one has to second-guess the quality of the water their child is drinking. The Inflation Reduction Act will also replace thousands of diesel school buses with electric buses, saving our kids from inhaling dangerous fumes.

I know there is so much more work to do to build a future worthy of the hopes and dreams of our children. We must secure free, high-quality preschool for every American child and lower health care costs even more for American families. I continue calling for tax breaks for middle-class parents and for new laws that keep our children safe from violence at school and at home. I will do everything in my power to tackle the climate crisis and pass down a healthier planet to future generations. To win the competition for the future, we must continue building a healthier and safer Nation for our children. Our families and our country depend on it.

The Congress, by a joint resolution approved May 18, 1928, as amended (36 U.S.C. 105), has called for the designation of the first Monday in October as Child Health Day and has requested that the President issue a proclamation in observance of this day.

NOW, THEREFORE, I, JOSEPH R. BIDEN JR., President of the United States of America, by virtue of the authority vested in me by the Constitution and the laws of the United States, do hereby proclaim Monday, October 3, 2022, as Child Health Day. I call upon families, child health professionals, faith-based and community organizations, and governments to help ensure that America's children stay safe and healthy.

IN WITNESS WHEREOF, I have hereunto set my hand this thirtieth day of September, in the year of our Lord two thousand twenty-two, and of the Independence of the United States of America the two hundred and forty-seventh.

[FR Doc. 2022-21790

Filed 10-4-22; 8:45 am]

Billing code 3395-F3-P